SECURITIES AND EXCHANGE COMMISSION

Sunshine Act Meeting; Cancellation

FEDERAL REGISTER CITATION OF PREVIOUS ANNOUNCEMENT: To Be Published.

PREVIOUSLY ANNOUNCED TIME AND DATE OF THE MEETING: Monday, June 17, 2019 at 10:30 a.m.

CHANGES IN THE MEETING: The Closed Meeting scheduled for Monday, June 17, 2019 at 10:30 a.m., has been cancelled.

CONTACT PERSON FOR MORE INFORMATION: For further information; please contact Vanessa A. Countryman from the Office of the Secretary at (202) 551-5400.

Dated: June 12, 2019.
Vanessa A. Countryman,
Acting Secretary.

[FR Doc. 2019-12775 Filed 6-12-19; 4:15 pm]

BILLING CODE 8011-01-P